DEPARTMENT OF AGRICULTURE

Food Safety and Inspection Service

[Docket No. FSIS-2018-0002]

Codex Alimentarius Commission: Codex Committee on Pesticide Residues (CCPR)

AGENCY: Office of the Deputy Under Secretary for Food Safety, USDA.

ACTION: Notice of public meeting and request for comments.

SUMMARY: The Office of the Deputy Under Secretary for Food Safety, U.S. Department of Agriculture (USDA), Food Safety and Inspection Service (FSIS), and the U.S. Environmental Protection Agency (EPA) are sponsoring a public meeting on March 15, 2018. The objective of the public meeting is to provide information and receive public comments on agenda items and draft United States (U.S.) positions to be discussed at the 50th Session of the Codex Committee on Pesticide Residues (CCPR) of the Codex Alimentarius Commission (Codex), taking place in Haikou, China between April 9 and 14, 2018. The Acting Deputy Under Secretary for Food Safety and the EPA recognize the importance of providing interested parties the opportunity to obtain background information on the 50th Session of the CCPR and to address items on the agenda.

DATES: The public meeting is scheduled for Thursday, March 15, 2018, 1:00 p.m.-4:00 p.m.

ADDRESSES: The public meeting will take place at the EPA, Room PYS-4350, One Potomac Yard South, 2777 South Crystal Drive, Arlington, VA 22202.

Documents related to the 50th Session of the CCPR are accessible via the internet at the following address: http://www.fao.org/fao-who-codexalimentarius/meetings/en/.

Captain David Miller, U.S. Delegate to the 50th Session of the CCPR, and the USDA invite interested U.S. parties to submit their comments electronically to the following email address: Miller.Davidj@epa.gov.

Call-In-Number

If you wish to participate in the public meeting for the 50th Session of the CCPR by conference call, please use the call-in-number and participant code listed below:

Call-in-Number: 1-888-844-9904

Participant Code: 5126092

For Further Information About the 50th Session of the CCPR Contact: Captain David Miller, Chief, Chemistry & Exposure Branch and Acting Chief, Toxicology & Epidemiology Branch, Health Effects Division, Ariel Rios Building, 1200 Pennsylvania Avenue NW, Washington, DC 20460. Telephone: (703) 305-5352, Fax: (703) 305-5147, Email: Miller.Davidj@epa.gov.

For Further Information About the Public Meeting Contact: Marie Maratos, U.S. Codex Office, 1400 Independence Avenue SW, South Agriculture Building, Room 4861, Washington, DC 20250. Telephone: (202) 205-7760, Fax: (202) 720-3157, Email: Marie.Maratos@fsis.usda.gov.

SUPPLEMENTARY INFORMATION:

Background

Codex was established in 1963 by two United Nations organizations, the Food and Agriculture Organization and the World Health Organization (FAO/WHO). Through adoption of food standards, codes of practice, and other guidelines developed by its committees, and by promoting their adoption and implementation by governments, Codex seeks to protect the health of consumers and ensure fair practices are used in trade.

The CCPR is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides, in specific food items or groups of food.

The CCPR is hosted by China. The U.S. attends this committee as a member country of the Codex Alimentarius.

Issues To Be Discussed at the Public Meeting

The following items on the Agenda for the 50th Session of the CCPR will be discussed during the public meeting:

• Proposed draft and draft revision of the Classification of Food and Feed for selected commodity groups (including seeds for beverages and sweets);

• Proposed draft tables on examples of representative commodities (including seeds for beverages and sweets);

• Electronic Working Group Outcomes on the Proposed New Work on the Possible Revision of the International Estimated Short-Term Intake (IESTI) equations;

• Establishment of Codex Schedules and Priority Lists of Pesticides for evaluation by JMPR;

• Electronic Working Group Outcomes on the possible establishment of a Codex database of national registration of pesticides; and

• Other Business and Future Work.

Each issue listed will be fully described in documents distributed, or to be distributed, by the Secretariat before to the Meeting. Members of the public may access or request copies of these documents (see ADDRESSES).

Public Meeting

At the March 15, 2018, public meeting, draft U.S. positions on the agenda items will be described and discussed, and attendees will have the opportunity to pose questions and offer comments. Written comments may be offered at the meeting or sent to Captain David Miller, U.S. Delegate for the 50th Session of the CCPR (see ADDRESSES). Written comments should state that they relate to activities of the 50th Session of the CCPR.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410, Fax: (202) 690-7442, Email: program.intake@usda.gov.

Persons with disabilities who require alternative means for communication (Braille, large print, audiotape, etc.), should contact USDA's TARGET Center at (202) 720-2600 (voice and TDD).

Done at Washington, DC, on February 14, 2018.
Marie Maratos,
Acting U.S. Manager for Codex Alimentarius.

[FR Doc. 2018-03465 Filed 2-20-18; 8:45 am]

BILLING CODE 3410-DM-P